DEPARTMENT OF ENERGY

Federal Energy Regulatory Commission

Notice of Amendment of License and Soliciting Comments, Motions To Intervene, and Protests

February 18, 2005.

Take notice that the following hydroelectric application has been filed with the Commission and is available for public inspection:

a. Application Type: Amendment of License.

b. Project No.: 2543-064.

c. Date Filed: December 28, 2004.

d. Applicant: Clark Fork and Blackfoot, LLC.

e. Name of Project: Milltown.

f. Location: The project is located at the confluence of the Clark Fork and Blackfoot Rivers in Missoula County, Montana.

g. Filed Pursuant to: Federal Power Act, 16 U.S.C. 791(a)-825(r).

h. Applicant Contact: Michael J. Young, Esq., Clark Fork and Blackfoot, LLC, 123 S. Dakota Avenue, Sioux Falls, SD 57104, (605) 978-2836.

i. FERC Contact: Regina Saizan, (202) 502-8765.

j. Deadline for filing comments and or motions: March 21, 2005.

All documents (original and eight copies) should be filed with: Magalie R. Salas, Secretary, Federal Energy Regulatory Commission, 888 First Street, NE., Washington, DC 20426. Comments, protests, and interventions may be filed electronically via the Internet in lieu of paper; see 18 CFR 385.2001(a)(1)(iii) and the instructions on the Commission's Web site under the “e-Filing” link. The Commission strongly encourages electronic filings. Please include the project number (P-2543-064) on any comments or motions filed.

The Commission's Rules of Practice and Procedure require all intervenors filing a document with the Commission to serve a copy of that document on each person in the official service list for the project. Further, if an intervenor files comments or documents with the Commission relating to the merits of an issue that may affect the responsibilities of a particular resource agency, they must also serve a copy of the document on that resource agency.

k. Description of Amendment: The applicant requests that the license termination date be extended from December 31, 2009, to December 31, 2010. The applicant states that while the U.S. Environmental Protection Agency published its Record of Decision (ROD) on December 20, 2004, for the Milltown Superfund site, setting forth the selected remedy involving the removal of Milltown Dam, the interested parties continue to negotiate a consent decree, setting forth the terms and conditions of the settlement including implementation of the remedy set forth in the ROD. In light of the uncertainty over whether an acceptable consent decree will be negotiated and executed by the relevant parties, the applicant requests the extension to mitigate any license renewal risk in the unlikely event the parties fail to successfully negotiate a consent decree for the Milltown Superfund site. On December 27, 2004, the applicant filed a notice of intent to relicense the project with the understanding that its notice would become moot if its request to extend the term of the license is granted.

l. Locations of Application: A copy of the application is available for inspection and reproduction at the Commission in the Public Reference Room, located at 888 First Street NE., Room 2A, Washington, DC 20426, or by calling (202) 502-8371. This filing may also be viewed on the Commission's Web site at http://www.ferc.gov using the “eLibrary” link. Enter the docket number excluding the last three digits in the docket number field to access the document. For assistance, call toll-free 1-866-208-3676 or e-mail FERCOnlineSupport@ferc.gov. For TTY, call (202) 502-8659. A copy is also available for inspection and reproduction at the address in item h. above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representative.

Magalie R. Salas,
Secretary.

[FR Doc. E5-781 Filed 2-24-05; 8:45 am]

BILLING CODE 6717-01-P